DEPARTMENT OF TRANSPORTATION

Federal Aviation Administration

RTCA Special Committee 195: Flight Information Services Communications (FISC)

AGENCY: Federal Aviation Administration (FAA), DOT.

ACTION: Notice of RTCA Special Committee 195 meeting.

SUMMARY: The FAA is issuing this notice to advise the public of a meeting of RTCA Special Committee 195: Flight Information Services Communications (FISC).

DATES: The meeting will be held August 12-14, 2003, starting at 8:30 a.m.

ADDRESSES: The meeting will be held at RTCA, Inc., 1828 L Street NW., Suite 805, Washington, DC 20036.

FOR FURTHER INFORMATION CONTACT: RTCA Secretariat, 1828 L Street NW., Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Special Committee 195 meeting. The agenda will include:

• August 12:

• Opening Plenary Session (Welcome and Introductory Remarks, Approxal of Agenda, Approval of Minutes, Review of Action Items)

• Review and Disposition—Final Review and Comment (FRAC) comments on draft DO-267A, Minimum Aviation System Performance Standards, (MASPS) for Flight Information Services—Broadcast (FIS-B) Data Link

• August 13:

• Continue Review and Disposition of FRAC Comments on draft DO-267A

• August 14:

• Continue Review and Disposition of FRAC comments on draft DO-267A

• Approve final draft DO-267A and forward to RTCA Program Management Committee

• Closing Plenary Session (Review Action Items; Discussion of Future Workplan, Other Business, Date and Place of Next Meeting, Adjourn)

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on July 11, 2003.
Janice L. Peters,
FAA Special Assistant, RTCA Advisory Committee.

[FR Doc. 03-18629 Filed 7-21-03; 8:45 am]

BILLING CODE 4910-13-M